DEPARTMENT OF ENERGY

Federal Energy Regulatory Commission

[Project No. 3472-022]

Summit Hydropower, Inc.; Aspinook Hydro, LLC; Notice of Application for Transfer of License and Soliciting Comments, Motions To Intervene, and Protests

On April 12, 2016, Summit Hydropower, Inc. (transferor) and Aspinook Hydro, LLC (transferee) filed an application for transfer of license of the Wyre Wynd Project No. 3472. The project is located on the Quinebaug River in New London County, Connecticut. The project does not occupy Federal lands.

The applicants seek Commission approval to transfer the license for the Wyre Wynd Project from the transferor to the transferee.

Applicant Contact: For transferor: Mr. Duncan Broatch, Summit Hydropower, Inc., 6 Far Hills Drive, Avon, CT 06001, telephone: 860-255-7744, email: dbroatch@earthlink.net and Ms. Katie McGinnes, Day Pitney LLP, 242 Trumbull Street, Hartford, CT 06103-1212. For transferee: Mr. Mark Boumansour, Aspinook Hydro, LLC, c/o Gravity Renewables, Inc., 1401 Walnut Street, Suite 220, Boulder, CO 80302, telephone: 303-440-3378, email: mark@gravityrenewables.com and copies to: Mr. Karl F. Kumli, III, Dietze and Davis, P.C., 2060 Broadway, Suite 400, Boulder, CO 80302 and Mr. Robert A. Panasci, Esq., Young/Sommer, LLC Executive Woods, 5 Palisades Drive, Albany, NY 12205.

FERC Contact: Patricia W. Gillis, (202) 502-8735, patricia.gillis@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-3472-022.

Dated: April 21, 2016.
Kimberly D. Bose,
Secretary.

[FR Doc. 2016-10141 Filed 4-29-16; 8:45 am]

BILLING CODE 6717-01-P